DEPARTMENT OF ENERGY

Federal Energy Regulatory Commission

[Docket Nos. PH06-32-000, et al.]

Alexander & Baldwin, Inc. et al.; Electric Rate and Corporate Filings

March 31, 2006.

The following filings have been made with the Commission. The filings are listed in ascending order within each docket classification.

1. Alexander & Baldwin, Inc.; McBryde Sugar Company, Limited

[Docket No. PH06-32-000]

Take notice that on March 20, 2006, Alexander & Baldwin, Inc. and McBryde Sugar Company, Limited filed a Petition for Waiver of the Requirements of The Public Utility Holding Company Act of 2005, pursuant to 18 CFR 366.3(c)(1) and 366.4(c)(1) of the Commission's regulations on the basis that it is a single state holding company.

Comment Date: 5 p.m. eastern time on April 10, 2006.

2. LMB Capital, Inc.

[Docket No. PH06-33-000]

Take notice that on March 27, 2006, LMB Capital, Inc. filed a Petition for Exemption of the Requirements of The Public Utility Holding Company Act of 2005, pursuant to 18 CFR 366.3(a) 366.4(b)(1) of the Commission's regulations.

Comment Date: 5 p.m. eastern time on April 17, 2006.

3. Hawkeye Funding, Inc.

[Docket No. PH06-34-000]

Take notice that on March 27, 2006, Hawkeye Funding, Inc. filed a Petition for Exemption of the Requirements of The Public Utility Holding Company Act of 2005, pursuant to 18 CFR 366.3(b) 366.4(b)(1) of the Commission's regulations.

Comment Date: 5 p.m. eastern time on April 17, 2006.

4. Juniper Capital GP, LLC

[Docket No. PH06-35-000]

Take notice that on March 27, 2006, Juniper Capital GP, LLC filed a Petition for Exemption of the Requirements of The Public Utility Holding Company Act of 2005, pursuant to 18 CFR 366.3(b) 366.4(b)(1) of the Commission's regulations.

Comment Date: 5 p.m. eastern time on April 17, 2006.

5. JMG Capital, Inc.

[Docket No. PH06-36-000]

Take notice that on March 27, 2006, JMG Capital, Inc. filed a Petition for Exemption of the Requirements of The Public Utility Holding Company Act of 2005, pursuant to 18 CFR 366.3(b) 366.4(b)(1) of the Commission's regulations.

Comment Date: 5 p.m. eastern time on April 17, 2006.

6. Wygen Capital, Inc.

[Docket No. PH06-37-000]

Take notice that on March 27, 2006, Wygen Capital, Inc. filed a Petition for Exemption of the Requirements of The Public Utility Holding Company Act of 2005, pursuant to 18 CFR 366.3(a) and 366.4(b)(1) of the Commission's regulations.

Comment Date: 5 p.m. eastern time on April 17, 2006.

7. LIC Capital, Inc.

[Docket No. PH06-38-000]

Take notice that on March 27, 2006, LIC Capital, Inc. filed a Petition for Exemption of the Requirements of The Public Utility Holding Company Act of 2005, pursuant to 18 CFR 366.3(a) 366.4(b)(1) of the Commission's regulations.

Comment Date: 5 p.m. eastern time on April 17, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-5093 Filed 4-6-06; 8:45 am]

BILLING CODE 6717-01-P